DEPARTMENT OF TRANSPORTATION

Federal Aviation Administration

14 CFR Part 39

[Docket No. FAA-2008-0042; Directorate Identifier 2007-SW-26-AD]

RIN 2120-AA64

Airworthiness Directives; Eurocopter Deutschland GMBH Model MBB-BK 117C-2 Helicopters

AGENCY: Federal Aviation Administration (FAA), DOT.

ACTION: Notice of proposed rulemaking (NPRM).

SUMMARY: We propose to adopt a new airworthiness directive (AD) for Eurocopter Deutschland GMBH (Eurocopter) Model MBB-BK 117C-2 helicopters. This proposed AD results from mandatory continuing airworthiness information (MCAI) originated by an aviation authority of another country to identify and correct an unsafe condition on an aviation product. The European Aviation Safety Agency for the Republic of Germany, with which we have a bilateral agreement, states in the MCAI:

During inadvertent operation of the fire extinguishing system, in one case it occurred that one of the two injection tubes became disconnected. This condition, if not corrected, could affect the ability of the fire extinguishing system to perform its intended function in the case of activation.

The inability of the fire extinguishing system to suppress an engine fire creates an unsafe condition. The proposed actions are intended to address this unsafe condition by further securing the injection tubes with improved clamps, allowing suppression of a contained engine fire, and preventing an uncontained engine fire and subsequent loss of the helicopter.

DATES: We must receive comments on this proposed AD by February 22, 2008.

ADDRESSES: You may send comments by any of the following methods:

• Federal eRulemaking Portal: http://www.regulations.gov. Follow the instructions for submitting comments.

• Fax: 202-493-2251.

• Mail: U.S. Department of Transportation, Docket Operations, M-30, West Building, Ground Floor, Room W12-140, 1200 New Jersey Avenue, SE., Washington, DC 20590.

• Hand Delivery: Deliver to U.S. Department of Transportation, Docket Operations, M-30, West Building, Ground Floor, Room W12-140, 1200 New Jersey Avenue, SE., Washington, DC 20590 between 9 a.m. and 5 p.m., Monday through Friday, except Federal holidays.

Examining the AD Docket

You may examine the AD docket on the Internet at http://www.regulations.gov or in person at the Docket Operations office between 9 a.m. and 5 p.m., Monday through Friday, except Federal holidays. The AD docket contains this proposed AD, the economic evaluation, any comments received, and other information. The street address for the Docket Operations office (telephone (800) 647-5527) is in the ADDRESSES section. Comments will be available in the AD docket shortly after receipt.

FOR FURTHER INFORMATION CONTACT: John Strasburger, Aviation Safety Engineer, FAA, Rotorcraft Directorate, Regulations and Guidance Group, Fort Worth, Texas 76193-0111, telephone (817) 222-5167, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This proposed AD references the MCAI and related service information that we considered in forming the engineering basis to correct the unsafe condition. The proposed AD contains text copied from the MCAI and for this reason might not follow our plain language principles.

Comments Invited

We invite you to send any written relevant data, views, or arguments about this proposed AD. Send your comments to an address listed under the ADDRESSES section. Include “Docket No. FAA-2008-0042; Directorate Identifier 2007-SW-26-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued an MCAI in the form of an EASA AD No. 2007-0121, dated May 3, 2007 (referred to after this as “the MCAI”), to correct an unsafe condition for this German-certificated product. The MCAI states:

During inadvertent operation of the fire extinguishing system, in one case it occurred that one of the two injection tubes became disconnected. This condition, if not corrected, could affect the ability of the fire extinguishing system to perform its intended function in the case of activation.

The inability of the fire extinguishing system to suppress an engine fire creates an unsafe condition. The proposed actions are intended to address this unsafe condition by further securing the injection tubes with improved clamps, allowing suppression of a contained engine fire, and preventing an uncontained engine fire and subsequent loss of the helicopter.

You may obtain further information by examining the MCAI and service information in the AD docket.

Relevant Service Information

Eurocopter has issued Alert Service Bulletin MBB BK117 C-2-26A-001, dated January 22, 2007. The actions described in the MCAI are intended to correct the same unsafe condition as that identified in the service information.

FAA's Determination and Requirements of This Proposed AD

This product has been approved by the aviation authority of the Federal Republic of Germany, and is approved for operation in the United States. Pursuant to our bilateral agreement with this State of Design, we have been notified of the unsafe condition described in the MCAI and service information. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information. Any such differences are highlighted in the “Differences Between the FAA AD and the MCAI” section in the proposed AD.

Costs of Compliance

We estimate that this proposed AD would affect about 26 helicopters of U.S. registry. We also estimate that it would take about 3.5 work-hours per helicopter to replace the clamps on the injection tubes. The average labor rate is $80 per work-hour. Required parts would cost $20 per helicopter. Based on these figures, we estimate the cost of the proposed AD on U.S. operators to be $7,800, or $300 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter Deutschland GmbH: Docket No. FAA-2008-0042; Directorate Identifier 2007-SW-26-AD.

Comments Due Date

(a) We must receive comments by February 22, 2008.

Other Affected ADs

(b) None.

Applicability

(c) This AD applies to Model MBB-BK 117C-2 helicopters, Serial Number (S/N) 9004 through S/N 9104, and S/N 9106, 9107, and 9111, with a fire extinguishing system B26K1002-801, B262K1003-801, or B262K1004-801, installed, certificated in any category.

Reason

(d) The mandatory continuing airworthiness information (MCAI) states:

During inadvertent operation of the fire extinguishing system, in one case it occurred that one of the two injection tubes became disconnected. This condition, if not corrected, could affect the ability of the fire extinguishing system to perform its intended function in the case of activation.

The inability of the fire extinguishing system to suppress an engine fire creates an unsafe condition. The proposed actions are intended to address this unsafe condition by further securing the injection tubes with improved clamps, allowing suppression of a contained engine fire, and preventing an uncontained engine fire and subsequent loss of the helicopter.

Actions and Compliance

(e) At the next 100 hours time-in-service inspection, unless already done, replace the current injection tube clamps by installing GBS clamps, part number GBSM24/18W4SK, by following the Accomplishment Instructions, paragraph A., and Figure 1 of Eurocopter Alert Service Bulletin MBB BK117 C-2-26A-001, dated January 22, 2007.

Differences Between the FAA AD and the MCAI

(f) The FAA refers to the compliance time by hours time-in-service rather than flight hours as referred to in the MCAI.

Subject

(g) Air Transport Association of America (ATA) Code JASC 262 Extinguishing System.

Other FAA AD Provisions

(h) The following provisions also apply to this AD:

(1) Alternative Methods of Compliance (AMOCs): The Manager, Safety Management Group, Rotorcraft Directorate, FAA, has the authority to approve AMOCs for this AD, if requested, using the procedures found in 14 CFR 39.19. Send information to ATTN: John Strasburger, Aviation Safety Engineer, Fort Worth, Texas 76193-0111, telephone (817) 222-5167, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI Airworthiness Directive No. 2007-0121, dated May 3, 2007, contains related information.

Issued in Fort Worth, Texas, on January 4, 2008.
David A. Downey,
Manager, Rotorcraft Directorate, Aircraft Certification Service.

[FR Doc. E8-1023 Filed 1-22-08; 8:45 am]

BILLING CODE 4910-13-P